DEPARTMENT OF ENERGY

Federal Energy Regulatory Commission

Combined Notice of Filings #1

Take notice that the Commission received the following Complaints and Compliance filings in EL Dockets:

Docket Numbers: EL25-83-000; QF89-274-029.

Applicants: Selkirk Cogen Partners, L.P., Selkirk Cogen Partners, L.P.

Description: Petition for Declaratory Order of Selkirk Cogen Partners, L.P.

Filed Date: 5/9/25.

Accession Number: 20250509-5209.

Comment Date: 5 p.m. ET 6/9/25.

Take notice that the Commission received the following electric rate filings:

Docket Numbers: ER24-2037-002.

Applicants: Tucson Electric Power Company.

Description: Compliance filing: Order Nos. 2023 and 2023-A Supplement to Second Compliance Filing to be effective 8/15/2024.

Filed Date: 5/14/25.

Accession Number: 20250514-5159.

Comment Date: 5 p.m. ET 6/4/25.

Docket Numbers: ER25-1760-000.

Applicants: Braintree MA BESS 1 LLC.

Description: Amendment to March 25, 2025, Braintree MA BESS 1 LLC tariff filing.

Filed Date: 5/13/25.

Accession Number: 20250513-5147.

Comment Date: 5 p.m. ET 5/23/25.

Docket Numbers: ER25-1828-001.

Applicants: Midcontinent Independent System Operator, Inc., Michigan Electric Transmission Company, LLC.

Description: Tariff Amendment: Michigan Electric Transmission Company, LLC submits tariff filing per 35.17(b): 2025-05-15_SA 4465 METC-Coldwater Sub IFA to be effective 5/31/2025.

Filed Date: 5/15/25.

Accession Number: 20250515-5071.

Comment Date: 5 p.m. ET 6/5/25.

Docket Numbers: ER25-1829-001.

Applicants: Midcontinent Independent System Operator, Inc., Michigan Electric Transmission Company, LLC.

Description: Tariff Amendment: Michigan Electric Transmission Company, LLC submits tariff filing per 35.17(b): 2025-05-15_SA 4466 METC-City of Marshall Sub IFA to be effective 5/31/2025.

Filed Date: 5/15/25.

Accession Number: 20250515-5075.

Comment Date: 5 p.m. ET 6/5/25.

Docket Numbers: ER25-2220-000.

Applicants: VIOTAS Texas LLC.

Description: Supplement to 05/14/2025, VIOTAS Texas LLC tariff filing.

Filed Date: 5/14/25.

Accession Number: 20250514-5169.

Comment Date: 5 p.m. ET 5/27/25.

Docket Numbers: ER25-2222-000.

Applicants: American Transmission Systems, Incorporated.

Description: § 205(d) Rate Filing: ATSI submits Revised SA No. 6938 and SA No. 7215 to be effective 7/15/2025.

Filed Date: 5/15/25.

Accession Number: 20250515-5007.

Comment Date: 5 p.m. ET 6/5/25.

Docket Numbers: ER25-2223-000.

Applicants: PJM Interconnection, L.L.C.

Description: § 205(d) Rate Filing: NSA, Original SA No. 7695 Queue Position No. AF1-007 to be effective 7/15/2025.

Filed Date: 5/15/25.

Accession Number: 20250515-5008.

Comment Date: 5 p.m. ET 6/5/25.

Docket Numbers: ER25-2224-000.

Applicants: Black Hills Power, Inc.

Description: § 205(d) Rate Filing: Filing of LGIA with Vedauwoo Holdings Black Hills 1, LLC to be effective 4/29/2025.

Filed Date: 5/15/25.

Accession Number: 20250515-5035.

Comment Date: 5 p.m. ET 6/5/25.

Docket Numbers: ER25-2225-000.

Applicants: Adams Wind Farm, LLC.

Description: Tariff Amendment: Notice of Cancellation of Market-Based Rate Tariff to be effective 5/15/2025.

Filed Date: 5/15/25.

Accession Number: 20250515-5041.

Comment Date: 5 p.m. ET 6/5/25.

Docket Numbers: ER25-2226-000.

Applicants: Southern California Edison Company.

Description: § 205(d) Rate Filing: Amended GIA/DSA, Mammoth G2 (WDT1678-WDT1726/SA Nos. 1128-1129) to be effective 5/16/2025.

Filed Date: 5/15/25.

Accession Number: 20250515-5044.

Comment Date: 5 p.m. ET 6/5/25.

Docket Numbers: ER25-2227-000.

Applicants: Southwest Power Pool, Inc.

Description: § 205(d) Rate Filing: 4381 OG&E GIA to be effective 5/4/2025.

Filed Date: 5/15/25.

Accession Number: 20250515-5055.

Comment Date: 5 p.m. ET 6/5/25.

Docket Numbers: ER25-2228-000.

Applicants: Bobilli BSS, LLC.

Description: Tariff Amendment: Notice of Cancellation of Market-Based Rate Tariff to be effective 5/15/2025.

Filed Date: 5/15/25.

Accession Number: 20250515-5056.

Comment Date: 5 p.m. ET 6/5/25.

Docket Numbers: ER25-2229-000.

Applicants: Garwind, LLC.

Description: Tariff Amendment: Notice of Cancellation of Market-Based Rate Tariff to be effective 5/15/2025.

Filed Date: 5/15/25.

Accession Number: 20250515-5060.

Comment Date: 5 p.m. ET 6/5/25.

Docket Numbers: ER25-2230-000.

Applicants: Rose Creek Wind, LLC.

Description: Tariff Amendment: Notice of Cancellation of Market-Based Rate Tariff to be effective 5/15/2025.

Filed Date: 5/15/25.

Accession Number: 20250515-5066.

Comment Date: 5 p.m. ET 6/5/25.

Docket Numbers: ER25-2231-000.

Applicants: SF Wind Enterprises, LLC.

Description: Tariff Amendment: Notice of Cancellation of Market-Based Rate Tariff to be effective 5/15/2025.

Filed Date: 5/15/25.

Accession Number: 20250515-5067.

Comment Date: 5 p.m. ET 6/5/25.

Docket Numbers: ER25-2232-000.

Applicants: Illinois Generation LLC.

Description: Initial Rate Filing: Shared Facilities Agreement to be effective 5/16/2025.

Filed Date: 5/15/25.

Accession Number: 20250515-5113.

Comment Date: 5 p.m. ET 6/5/25.

Docket Numbers: ER25-2233-000.

Applicants: Petersburg Energy Center, LLC.

Description: Initial Rate Filing: Application for Market Based Rate to be effective 7/1/2025.

Filed Date: 5/15/25.

Accession Number: 20250515-5120.

Comment Date: 5 p.m. ET 6/5/25.

Docket Numbers: ER25-2234-000.

Applicants: Heritage Prairie Solar LLC.

Description: Initial Rate Filing: Certificate of Concurrence—SFA with IL Generation to be effective 5/16/2025.

Filed Date: 5/15/25.

Accession Number: 20250515-5122.

Comment Date: 5 p.m. ET 6/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date.

Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 15, 2025.
Carlos D. Clay,
Deputy Secretary

[FR Doc. 2025-09097 Filed 5-20-25; 8:45 am]

BILLING CODE 6717-01-P